DEPARTMENT OF THE INTERIOR

National Park Service

National Register of Historic Places; Notification of Pending Nominations

Nominations for the following properties being considered for listing in the National Register were received by the National Park Service before December 20, 2003. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by January 21, 2004.

Patrick W. Andrus,
Acting Keeper of the National Register of Historic Places.

ARIZONA

Coconino County

Jordan Ranch, 735 Jordan Rd., Sedona, 03001489

ARKANSAS

Faulkner County

Military Road—Cadron Segment, (Cherokee Trail of Tears MPS) Address Restricted, Conway, 03001490

GEORGIA

Richmond County

Academy of Richmond county—1926 Campus, 910 Russell St., Augusta, 03001491

IOWA

Marshall County

Hultgren Farm, 17953 309th St., Akron, 03001536

Story County

Mulcahy Barn, 25623—710th Ave., Colo, 03001492

KANSAS

Brown County

Eicholtz, A.J., House, 406N. 7th St., Hiawatha, 03001493

Dickinson County

Wheatland Farm Historic District, 2291 2100 Ave., Chapman, 03001494

Ellis County

Justus Bissing, Jr. Historic District, 502-504 W. 12th St., Hays, 03001495

Ellsworth County

Wilson Downtown Historic District #1—Main St., Roughly along Main St., 24th St., 25th St., and 26th St., Wilson, 03001496

Wilson Downtown Historic District #3—Southside, 400 blk of 27th St. aka Old Highway 40, Wilson, 03001497

Marion County

Bichet School, District 34, 4.5 mi. E of Florence on U.S. 50 and 1/10 mi. N of Bluestem Rd., Florence, 03001498

Pottawatomie County

Pottawatomie County Fair Pavilion, East Ninth St., Onaga, 03001499

Trego County

Trego County Fairgrounds Exhibit Building, Tract 10-12-23, Trego County Fairgrounds, Wa Keeney, 03001500

MAINE

Cumberland County

Norton House Historic District, 241 and 243 Foreside Rd., Falmouth, 03001501

Hancock County

Higgins Barn, 256 Oak Hill Rd., Indian Point, 03001502

Penobscot County

East Eddington Public Hall, Airline Rd., 0.4 mi W of juct of ME 46 S, Eddington, 03001503

MISSOURI

Greene County

Kite, Robert B. and Vitae A., Apartment Building, 769-771 South Ave., Springfield, 03001504

Scott County

Scott County Courthouse, 131 S. Winchester St., Benton, 03001505

St. Louis Independent city Parrish, D.L., Laundry Company Building, 3100-28 Olive St., St. Louis (Independent City), 03001506

Thiebe—Stierlin Music Company Building, 1006 Olive St., St. Louis (Independent City), 03001507

NEVADA

Clark County

Clark Avenue Railroad Underpass, Jct. of Bonanza Rd. and Union Pacific Railroad Tracks, Las Vegas, 03001509

Washoe County

Alpha Tau Omega Fraternity House, 205 University Terrace, Reno, 03001508

Garvey, Luella, House, 589-599 California Ave., Reno, 03001510

NEW MEXICO

Otero County

Jackson House, 1700 Ninth St., Almagordo, 03001511

NEW YORK

Albany County

Fine Arts and Flower Building Altamont Fairground, Altamont Fairgrounds, vic. of Grand St., Village of Altamont, 03001518

Dutchess County

DuBois, Peter C., House, 36 Slocum Rd., Beacon, 03001512

Essex County

Wellscroft, 158 NY 9N, Upper Jay, 03001513

New York County

French, Fred F., Building, 551 Fifth Ave., New York, 03001514

General Electric Building, 570 Lexington Ave., New York, 03001515

Orange County

St. Mark's Baptist Church, 213 Main St., Village of Highland Falls, 03001516

Rensselaer County

St. Barnabas Epicopal Church, 2900 Fifth Ave., Troy, 03001517

Westchester County

Mott Mill, 11-23 St. Casimir Ave., Yonkers, 03001519

Stonecrest, 703 Croton Lake Rd., Bedford Corners, 03001520

RHODE ISLAND

Providence County

Perkins Buildings, 85 Sprague St., 101 and 102 Westfield St., Providence, 03001521

SOUTH DAKOTA

Clay County

First Methodist Episcopal Church, 14-16 North Dakota St., Vermillion, 03001522

Garfield Township Hall, 16667 306th St., Beresford, 03001523

Custer County

Garlock Building, 522 Mount Rushmore Rd., Custer, 03001524

Fall River County

Log Cabin Tourist Camp, SD 1, Hot Springs, 03001525

Lake County

Hegdahl, Abraham, Farm, (Federal Relief Construction in South Dakota MPS) 22808 U.S. 81, Madison, 03001526

McCook County

Downtown Salem Historic District, 140,200 and 201 N. Main, Salem, 03001527

Minnehaha County

Parmley—Pankow House, 613 S. Main, Sioux Falls, 03001528

Sherman Historic District, Roughly bounded by W. 18th St. to W. 22nd St., and S. Dakota Ave. to S. Main St., Sioux Falls, 03001529

Stock Yards State Bank and Tri-State Wholesale Grocery Co., 201/207/211 N. Weber Ave., Sioux Falls, 03001530

Pennington County

Civilian Conservation Corp Camp F-10, (Federal Relief Construction in South Dakota MPS) 13381 Silver Mountain Rd., Rapid City, 03001531

Nichols Funeral Home Building, 832 St. Joseph, Rapid City, 03001532

Tripp County

Manthey Barn, 31952 289th St., Colome, 03001533

Turner County

Gunderson, Tenus Isaac, House, 1041 Washington, Genterville, 03001534

Wek Farmstead, 44227 288th St., Freeman, 03001535

Yankton County

New Hope Farm Polygonal Barn, (South Dakota's Round and Polygonal Barns and Pavilions MPS) 30725 444th Ave., Mission Hill, 03001537

New Hope Farm Swine Barn, 30725 444th Ave., Mission Hill, 03001538

Steigrube Place, (Northern and Central Townships of Yankton MRA) 30089 452nd Ave., Wakonda, 03001539

TEXAS

Lampasas County

Lampasas Downtown Historic District, Roughly bounded by Second St., Pecan St., Fourth St. and Chestnut St., Lampasas, 03001540

VERMONT

Windsor County

Congregational Church of Ludlow, (Religious Buildings, Sites and Structures in Vermont MPS) 48 Pleasant St., Ludlow, 03001541

WISCONSIN

Dunn County

Colfax Municipal Building, 613 Main St., Colfax, 03001542

[FR Doc. 04-141 Filed 1-5-04; 8:45 am]

BILLING CODE 4312-51-P